SMALL BUSINESS ADMINISTRATION

[Declaration of Disaster #P012]

State of Florida

As a result of the President's major disaster declaration for Public Assistance on July 29, 2003 the U.S. Small Business Administration is activating its disaster loan program only for private non-profit organizations that provide essential services of a governmental nature. I find that Charlotte, Citrus, DeSoto, Hardee, Levy, Manatee and Sarasota Counties in the State of Florida constitute a disaster area due to damages caused by severe storms and flooding occurring on June 13, 2003 and continuing. Applications for loans for physical damage as a result of this disaster may be filed until the close of business on September 29, 2003 at the address listed below or other locally announced locations: Small Business Administration, Disaster Area 2 Office, One Baltimore Place, Suite 300, Atlanta, GA 30308.

The interest rates are:

| Percent
For Physical Damage
Non-Profit Organizations Without Credit Available Elsewhere | 2.953
Non-Profit Organizations With Credit Available Elsewhere | 5.500

The number assigned to this disaster for physical damage is P01211.

(Catalog of Federal Domestic Assistance Program Nos. 59008).

Dated: July 31, 2003.
Herbert L. Mitchell,
Associate Administrator for Disaster Assistance.

[FR Doc. 03-20257 Filed 8-7-03; 8:45 am]

BILLING CODE 8025-01-P